SECURITIES AND EXCHANGE COMMISSION

[File No. 500-1]

In the Matter of Primegen Energy Corp.; Order of Suspension of Trading

March 1, 2010.

It appears to the Securities and Exchange Commission that there is a lack of current and accurate information concerning the securities of PrimeGen Energy Corporation (“PrimeGen”) because of questions regarding the accuracy of publicly disseminated information concerning, among other things, the company's current financial condition, management, and business operations. PrimeGen is quoted on the Pink Sheets under the symbol “PGNE.”

The Commission is of the opinion that the public interest and the protection of investors require a suspension of trading in the securities of the above-listed company.

Therefore, it is ordered, pursuant to Section 12(k) of the Securities Exchange Act of 1934, that trading in securities of the above-listed company is suspended for the period from 9:30 a.m. EST, on March 1, 2010, through 11:59 p.m. EST, on March 12, 2010.

By the Commission.
Elizabeth M. Murphy,
Secretary.

[FR Doc. 2010-4502 Filed 3-1-10; 11:15 am]

BILLING CODE 8011-01-P